DEPARTMENT OF ENERGY

Privacy Act of 1974; System of Records

AGENCY: U.S. Department of Energy.

ACTION: Notice of a new system of records.

SUMMARY: As required by the Privacy Act of 1974 and the Office of Management and Budget (OMB) Circulars A-108 and A-130, the Department of Energy (DOE or the Department) is publishing notice of a newly established Privacy Act system of records. DOE proposes to establish System of Records DOE-85 Research, Technology, and Economic Security (RTES) Due Diligence Review Records as part of the Department's implementation of Government-wide and Departmental RTES requirements included in National Security Presidential Memorandum-33 (NSPM-33), the CHIPS and Science Act, and other laws or Executive orders related to research security. Records in this system are maintained and used by the Department to track and monitor research, technology, and economic security risk assessments associated with the projects for which the Department receives applications, proposals, and submissions for research, development, deployment, demonstrations, commercialization, and scientific activities, and Departmental laboratories and facilities performing such activities, as well as certain high-risk non-scientific and non-research and development activities and for projects DOE otherwise is or is considering supporting.

DATES: This new System of Records Notice (SORN) will become applicable following the end of the public comment period on October 9, 2024, unless comments are received that result in a contrary determination.

ADDRESSES: Written comments should be sent to the DOE Desk Officer, Office of Information and Regulatory Affairs, Office of Management and Budget, New Executive Office Building, Room 10102, 735 17th Street NW, Washington, DC 20503 and to Ken Hunt, Chief Privacy Officer, U.S. Department of Energy, 1000 Independence Avenue SW, Rm. 8H-085, Washington, DC 20585, by facsimile at (202) 586-8151, or by email at privacy@hq.doe.gov.

FOR FURTHER INFORMATION CONTACT: Ken Hunt, Chief Privacy Officer, U.S. Department of Energy, 1000 Independence Avenue SW, Rm 8H-085, Washington, DC 20585, or by facsimile at (202) 586-8151, by email at privacy@hq.doe.gov, or by telephone at (240) 686-9485.

SUPPLEMENTARY INFORMATION: DOE proposes to establish System of Records DOE-85 Research, Technology, and Economic Security (RTES) Due Diligence Review Records. Records in this system are maintained and used by the Department to track and monitor research, technology, and economic security risk assessments associated with the projects for which the Department receives applications, proposals, and submissions for research, development, deployment, demonstrations, commercialization, and scientific activities, and Departmental laboratories and facilities performing such activities, as well as certain non-scientific and non-research and development activities and for projects DOE/National Nuclear Security Administration (NNSA) is considering supporting.

RTES requirements applicable to financial assistance agreements will be implemented through DOE/NNSA financial assistance policies, funding opportunity announcements, and award terms and conditions. RTES requirements applicable to Departmental laboratories and facilities will be implemented through Departmental policies, directives, and DOE/NNSA laboratory prime contract requirements. Section 10637 of the Research and Development, Competition, and Innovation Act (Pub. L. 117-167), part of the CHIPS and Science Act, provides that Federal agencies must “ensure that policies and activities developed and implemented pursuant to [the Act's research security requirements] are carried out in a manner that does not target, stigmatize, or discriminate against individuals on the basis of race, ethnicity, or national origin, consistent with title VI of the Civil Rights Act of 1964 (42 U.S.C. 2000d et seq.).”

SYSTEM NAME AND NUMBER:

DOE-85 Research, Technology, and Economic Security (RTES) Due Diligence Review Records.

SECURITY CLASSIFICATION:

Both classified and unclassified.

SYSTEM LOCATION:

Systems leveraging this SORN may exist in multiple locations. All systems storing records in a cloud-based server are required to use government-approved cloud services and follow National Institute of Standards and Technology (NIST) security and privacy standards for access and data retention. Records maintained in a government-approved cloud server are accessed through secure data centers in the continental United States.

U.S. Department of Energy Headquarters, 1000 Independence Avenue SW, Washington, DC 20585.

SYSTEM MANAGER:

Director, Office of Research, Technology, and Economic Security (RTES). U.S. Department of Energy Headquarters, 1000 Independence Avenue SW, Washington, DC 20585.

AUTHORITY FOR MAINTENANCE OF THE SYSTEM:

42 U.S.C. 7101 et seq.; 50 U.S.C. 2401 et seq.; The Atomic Energy Act of 1954 (Pub. L. 83-303), as amended (42 U.S.C. 2011 et seq.), sections 31, 32, and 33; The Economy Act of 1932, 31 U.S.C. 1535; Presidential Memorandum on United States Government-Supported Research and Development National Security Policy 33 (NSPM-33); Research and Development, Competition, and Innovation Act, Div. B of the CHIPS and Science Act (42 U.S.C. 18912, 19231-19237; Pub. L. 117-167); National Defense Authorization Act for Fiscal Year 2021 (42 U.S.C. 6605; Pub. L. 116-283); National Defense Authorization Act for Fiscal Year 2020 (42 U.S.C. 6601 note; Pub. L. 116-92); the SBIR and STTR Extension Act of 2022 (15 U.S.C. 638(vv); Pub. L. 117-183); DOE Order 486.1A, Foreign Government Sponsored or Affiliated Activities; DOE Policy 485.1A, Foreign Engagements with DOE National Laboratories; OMB Memorandum M-19-16, Centralized Mission Support Capabilities for the Federal Government (April 26, 2019); Federal Grant and Cooperative Agreement Act of 1977 (Pub. L. 95-224); Grants Oversight and New Efficiency Act of 2016 (Pub. L. 114-117); Digital Accountability and Transparency Act of 2014 (Pub. L. 113-101); Federal Funding Accountability and Transparency Act of 2006 (Pub. L. 109-282); Lobbying Disclosure Act of 1995 (Pub. L. 104-65); Single Audit Act (1984) (Pub. L. 98-502); Uniform Administrative Requirements, Cost Principles, and Audit Requirements for Federal Awards, 2 CFR part 200.

PURPOSE(S) OF THE SYSTEM:

The purpose of this system is to enhance DOE's capabilities to aggregate, link, analyze and maintain information used by the Department to assess research, technology, and economic security (RTES) risk. RTES risks may include risk of foreign government interference and exploitation, intellectual property (IP) loss, national security risk, conflicts of interest, and conflicts of commitment, and other parameters defined in DOE/NNSA policy. The RTES analysis builds on pre-existing information provided by individuals and organizations that interact with DOE/NNSA, paired with public records (see categories of records), and in some cases, classified information. Consistent with NSPM-33, applicable law, and existing DOE/NNSA policies, the system records may be shared as appropriate with other Federal funding agencies and internally within DOE/NNSA to help ensure a coordinated and consistent approach to risk assessment.

Information collected in this system may be utilized for the following purposes:

1. To identify inconsistencies in information reported by individuals to DOE/NNSA related to submitted proposals, terms and conditions, and project reports of a DOE/NNSA award or other activity. An example of inconsistencies could include undisclosed current and pending research support or positions and appointments.

2. To conduct due diligence and RTES risk assessments established according to guidelines (e.g., risk matrices) and review processes to evaluate and manage research, development, deployment, demonstrations, commercialization, and scientific activities.

3. To use RTES risk assessments to ensure that DOE/NNSA makes informed funding decisions including implementation of RTES risk mitigations as a condition of funding, if needed, to ensure that U.S. economic and national security interests are protected.

4. To monitor and notify current and potential participants (i.e., recipients and applicants) in the subject DOE/NNSA research, development, deployment, demonstrations, commercialization, and scientific activities of unmanageable RTES risks and compliance with applicable RTES requirements and mitigations.

CATEGORIES OF INDIVIDUALS COVERED BY THE SYSTEM:

1. Individuals who apply to (either directly or as part of an application submitted by an entity), participate in, or are supported by DOE/NNSA funding programs (e.g., financial assistance, Partnership Intermediary Agreements (PIAs), prize competitions, loans, and contracts). These individuals would include individuals designated by the applicant to direct the project (e.g., Principal Investigators, Program Directors), senior/key personnel, and other members of project teams. These individuals may also include DOE/NNSA contractor-operated and government-operated laboratory employees and laboratory partners. To inform the assessment of an entity's foreign ownership, control, and influence (FOCI), including FOCI related to foreign countries of concern, countries of risk, foreign entities of concern, entities of concern, or similar terms as defined in applicable laws or DOE/NNSA policies, the system includes information on individuals in a position to own, control or influence the entity (e.g., owners, directors, board members, and significant investors and shareholders), consistent with applicable requirements.

2. Individuals who evaluate applications submitted to DOE/NNSA or DOE/NNSA-supported projects, either by submitting individual comments, or by serving on review panels or site visit teams, i.e., independent merit reviewers, peer reviewers and advisory committee and panel members.

CATEGORIES OF RECORDS IN THE SYSTEM:

1. Records related to application, negotiation, award, and reporting processes for financial assistance, PIA, loan application documents, records of financial assistance awards and contracts, financial data, Unique Entity Identifier (i.e., business/organization unique identifier), Taxpayer Identification Number (TIN), to include Employer Identification Number (EIN), persistent identifiers (e.g., Open Researcher and Contributor ID), demographic data, place of residency, location of business operation, citizenship status, academic and other reports, disclosures, and other deliverables, including resumes, curriculum vitae, and statements of current and pending support.

2. Publication and patent information (including co-author and co-inventor connections) will be obtained from third parties that compile related public information for commercial purposes. Such sources include, but are not limited to, Clarivate (Web of Science), Elsevier (Scopus), Dimensions, United States Patent and Trademark Office, Open Researcher and Contributor ID (ORCID), and Google Scholar.

3. Job positions and titles obtained, as displayed in public platforms; undergraduate, graduate and postdoctoral training; academic, professional and institutional appointments.

4. Risk reports; supporting documentation, records, and files; law enforcement records, reports and files; reports on foreign contacts, travel, and other security-related reporting requirements; records, reports and files received from other DOE elements and other Federal agencies; open-source, publicly available information compiled by commercial tools for risk management and compliance, sometimes referred to as “Business Intelligence Tools”.

5. Any other information provided by a participant in response to follow-up questions regarding potential inconsistencies in initial disclosures that may be needed for due diligence review of an application or similar instrument submitted to request DOE support (e.g., financial assistance, cooperative agreement, grant, prize, or loan) and of DOE-supported projects and activities.

RECORD SOURCE CATEGORIES:

1. Applicant, recipient, awardee, subrecipient, borrower, evaluators, reviewers, project support personnel, financial assistance applications, cooperative agreement applications, prize applications, PIA, financial assistance or cooperative agreement reporting requirements, and loan application documents.

2. The subject individual; publicly or commercially available material; other agencies within the Intelligence Community; other agencies within the U.S. Government, other offices within the DOE; the Federal Bureau of Investigation (FBI), and other Federal, State, and local law enforcement agencies; and sources contacted during the due diligence review process.

ROUTINE USES OF RECORDS MAINTAINED IN THE SYSTEM, INCLUDING CATEGORIES OF USERS AND PURPOSES OF SUCH USES:

1. A record from this system may be disclosed as a routine use to a Member of Congress submitting a request involving a constituent when the constituent has requested assistance from the member concerning the subject matter of the record. The Member of Congress must provide a copy of the constituent's signed request for assistance.

2. A record from this system may be disclosed as a routine use to the appropriate local, Tribal, State, or Federal agency when records, alone or in conjunction with other information, indicate a violation or potential violation of law whether civil, criminal, or regulatory in nature, and whether arising by general statute or particular program pursuant thereto.

3. A record from this system may be disclosed as a routine use for the purpose of an investigation, settlement of claims, or the preparation and conduct of litigation to (1) persons representing the Department in the investigation, settlement or litigation, and to individuals assisting in such representation; (2) others involved in the investigation, settlement, and litigation, and their representatives and individuals assisting those representatives; (3) witnesses, potential witnesses, or their representatives and assistants; and (4) any other persons who possess information pertaining to the matter when it is relevant and necessary to obtain information or testimony relevant to the matter.

4. A record from this system may be disclosed as a routine use to a Federal, State, Tribal, or local agency to facilitate the requesting agency's decision concerning the hiring or retention of an employee, the issuance of a security clearance, the reporting of an investigation of an employee, the letting of a contract, or the issuance of a license, financial assistance, or other benefit, to the extent that the information is relevant and necessary to the requesting agency's decision on the matter. The Department must deem such disclosure to be compatible with the purpose for which the Department collected the information.

5. A record from this system may be disclosed as a routine use to appropriate agencies, entities, and persons when (1) the Department suspects or has confirmed that there has been a breach of the system of records; (2) the Department has determined that as a result of the suspected or confirmed breach there is a risk of harm to individuals, DOE (including its information systems, programs, and operations), the Federal Government, or national security; and (3) the disclosure made to such agencies, entities, and persons is reasonably necessary to assist in connection with the Department's efforts to respond to the suspected or confirmed breach or to prevent, minimize, or remedy such harm.

6. A record from this system may be disclosed as a routine use to another Federal agency or Federal entity, when the Department determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

7. A record from this system may be disclosed as a routine use to contractors, agents, experts, consultants, or others performing work on a contract, service, cooperative agreement, job, or other activity for DOE/NNSA and who have a need to access the information in the performance of their duties or activities for DOE/NNSA.

8. A record from this system may be disclosed as a routine use to the organizations that submitted the application to demonstrate a potential inconsistency with DOE's disclosure requirements for submitted applications, terms and conditions of a DOE/NNSA award, and project reports.

9. A record from this system may be disclosed as a routine use to appropriate Federal agencies and within DOE/NNSA to demonstrate an inconsistency with DOE's RTES requirements (e.g., disclosure requirements, participation in malign foreign talent recruitment programs contrary to policies issued by DOE, or activities that threaten research, technology, and economic security), or upon request from another agency, if there are overlapping concerns. This includes law enforcement, security, and intelligence agencies, relevant agency components (such as the Office of Inspector General or the Office of Intelligence and Counterintelligence) or other Federal funding agencies, consistent with section 4(e) of NSPM-33 and section 1746 of the National Defense Authorization Act for Fiscal Year 2020 (Pub. L. 116-92), to inform efforts related to national and research, technology, and economic security. For purpose of this routine use, sharing with Federal agencies will be done in coordination with Office of the General Counsel.

10. A record from this system may be disclosed as a routine use to Federal science and technology agencies to improve portfolio management, coordinate initiatives, and enhance the government's understanding of the scientific landscape.

POLICIES AND PRACTICES FOR STORAGE OF RECORDS:

Records may be stored as paper records or electronic media.

POLICIES AND PRACTICES FOR RETRIEVAL OF RECORDS:

Information of individuals who interact with DOE will be retrieved by the individual's name, email address, persistent identifiers (e.g., ORCID), or DOE identifier.

POLICIES AND PRACTICES FOR RETENTION AND DISPOSAL OF RECORDS:

Retention and disposition of these records is in accordance with the National Archives and Records Administration approved records. Records in this system are currently unscheduled, which requires the records to be retained as permanent until NARA approves a DOE Records Disposition Schedule.

ADMINISTRATIVE, TECHNICAL, AND PHYSICAL SAFEGUARDS:

Electronic records may be secured and maintained on a cloud-based software server and operating system that resides in Federal Risk and Authorization Management Program (FedRAMP) and Federal Information Security Modernization Act (FISMA) hosting environment. Data located in the cloud-based server is firewalled and encrypted at rest and in transit. The security mechanisms for handling data at rest and in transit are in accordance with DOE encryption standards. Records are protected from unauthorized access through the following appropriate safeguards:

• Administrative: Access to all records is limited to lawful government purposes only, with access to electronic records based on role and either two-factor authentication or password protection. The system requires passwords to be complex and to be changed frequently. Users accessing system records undergo frequent training in Privacy Act and information security requirements. Security and privacy controls are reviewed on an ongoing basis.

• Technical: Computerized records systems are safeguarded on Departmental networks configured for role-based access based on job responsibilities and organizational affiliation. Privacy and security controls are in place for this system and are updated in accordance with applicable requirements as determined by NIST and DOE directives and guidance.

• Physical: Computer servers on which electronic records are stored are located in secured Department facilities, which are protected by security guards, identification badges, and cameras. Paper copies of all records, if any, are locked in file cabinets, file rooms, or offices and are under the control of authorized personnel. Access to these facilities is granted only to authorized personnel and each person granted access to the system must be an individual authorized to use or administer the system.

RECORD ACCESS PROCEDURES:

The Department follows the procedures outlined in 10 CFR 1008.4. Valid identification of the individual making the request is required before information will be processed, given, access granted, or a correction considered, to ensure that information is processed, given, corrected, or records disclosed or corrected only at the request of the proper person.

CONTESTING RECORD PROCEDURES:

Any individual may submit a request to the System Manager and request a copy of any records relating to them. In accordance with 10 CFR 1008.11, any individual may appeal the denial of a request made by him or her for information about or for access to or correction or amendment of records. An appeal shall be filed within 90 calendar days after receipt of the denial. When an appeal is filed by mail, the postmark is conclusive as to timeliness. The appeal shall be in writing and must be signed by the individual. The words “PRIVACY ACT APPEAL” should appear in capital letters on the envelope and the letter. Appeals relating to DOE records shall be directed to the Director, Office of Hearings and Appeals (OHA), 1000 Independence Avenue SW, Washington, DC 20585.

NOTIFICATION PROCEDURES:

In accordance with the DOE regulation implementing the Privacy Act, 10 CFR part 1008, a request by an individual to determine if a system of records contains information about themselves should be directed to the U.S. Department of Energy, Headquarters, Privacy Act Officer. The request should include the requester's complete name and the time period for which records are sought.

EXEMPTIONS PROMULGATED FOR THE SYSTEM:

This system is exempt under subsection (k)(1) of the Privacy Act to the extent that information within the System meets the criteria of those subsections of the Act. Such information has been exempted from the provisions of subsections (c)(3) (d), (e)(1), (e)(4)(G), (H), and (I), and (f) of the Act. See the Department's Privacy Act regulation at 10 CFR part 1008.

HISTORY:

This notice proposes to establish DOE-85 Research, Technology, and Economic Security Due Diligence Review Records as a new system of records. There has been no previous publication in the Federal Register pertaining to this system of records.

Signing Authority

This document of the Department of Energy was signed on August 29, 2024, by Ann Dunkin, Senior Agency Official for Privacy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 5, 2024.
Treena V. Garrett,
Federal Register Liaison Officer, U.S. Department of Energy.

[FR Doc. 2024-20376 Filed 9-9-24; 8:45 am]

BILLING CODE 6450-01-P